DEPARTMENT OF THE TREASURY

Office of Foreign Assets Control

Unblocking of Specially Designated National and Blocked Person Pursuant to Executive Order 13566

AGENCY: Office of Foreign Assets Control, Treasury.

ACTION: Notice.

SUMMARY: The Treasury Department's Office of Foreign Assets Control (“OFAC”) is publishing the name of one individual whose property and interests in property have been unblocked pursuant to Executive Order 13566 of February 25, 2011, “Blocking Property and Prohibiting Certain Transactions Related to Libya”

DATES: The unblocking and removal from the list of Specially Designated Nationals and Blocked Persons (“SDN List”) of the individual identified in this notice whose property and interests in property were blocked pursuant to Executive Order 13566 of February 25, 2011, is effective on June 21, 2011.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service tel.: (202) 622-0077.

Background

On February 25, 2011, President Barack Obama declared a national emergency in order to address the threat created by the deteriorating situation in Libya and Colonel Muammar Qadhafi's and his government's extreme measures against the people of Libya by issuing Executive Order 13566 “Blocking Property and Prohibiting Certain Transactions Related to Libya” (“E.O. 13566” or the “Order”) pursuant to the International Emergency Economic Powers Act (50 U.S.C. 1701 et seq.) (“IEEPA”). E.O. 13566 imposes economic sanctions on persons named in the Annex to the Order. The Order also authorizes the Secretary of the Treasury, in consultation with the Secretary of State, to designate additional persons determined to meet the criteria set forth in E.O. 13566.

On April 8, 2011, the Director of OFAC, in consultation with the Secretary of State, designated, pursuant to one or more of the criteria set forth in subparagraphs (b)(i) through (b)(vi) of Section 1 of the Order, the individual listed below, whose property and interests in property were blocked pursuant to the Order:

GHANEM, Shukri Mohammed (a.k.a. GHANEM, Shokri); DOB 9 Oct 1942; POB Tripoli, Libya; Oil Minister; Chairman of the National Oil Company of Libya (individual) [LIBYA2].

On June 21, 2011, the Director of OFAC removed this individual from the list of those subject to sanctions under the Order, and correspondingly removed him from the SDN list.

Dated: June 21, 2011.
Adam J. Szubin,
Director, Office of Foreign Assets Control.

[FR Doc. 2011-16187 Filed 6-27-11; 8:45 am]

BILLING CODE 4810-AL-P